ENVIRONMENTAL PROTECTION AGENCY

[FRL-7860-5]

Science Advisory Board (SAB) Staff Office; Notification of Upcoming Meetings of the Science Advisory Board Perfluorooctanoic Acid Risk Assessment (PFOA) Review Panel

AGENCY: Environmental Protection Agency (EPA).

ACTION: Notice.

SUMMARY: The EPA Science Advisory Board (SAB) Staff Office announces a public teleconference and a public face-to-face meeting of the SAB Perfluorooctanoic Acid Risk Assessment (PFOA) Review Panel.

DATES: January 25, 2005: The Panel will hold a public teleconference on January 25, 2005, from 2 p.m. to 5 p.m. (EST).

February 22-23, 2005: The Panel will hold a public face-to-face meeting starting February 22, 2005, at 8:30 a.m., adjourning at approximately 5 p.m. (EST) on February 23, 2005.

ADDRESSES: The public teleconference will take place via telephone only. The public face-to-face meeting of the SAB PFOA Review Panel will be held at the SAB Conference Center located at the Woodies Building, 1025 F Street, NW., Room 3705, Washington, DC, 20004.

FOR FURTHER INFORMATION CONTACT: Members of the public who wish to obtain the call-in number and access code to participate in the teleconference may contact Dr. Sue Shallal, EPA Science Advisory Board Staff (1400F), U.S. Environmental Protection Agency, 1200 Pennsylvania Ave., NW., Washington, DC 20460; telephone/voice mail: (202) 343-9977 or via e-mail at shallal.suhair@epa.gov. Technical Contact: The technical contact in EPA's Office of Pollution Prevention and Toxics (OPPT) is Dr. Jennifer Seed who can be reached at via e-mail at seed.jennifer@epa.gov or via telephone/voice mail: 202-564-7634.

SUPPLEMENTARY INFORMATION: Summary: Pursuant to the Federal Advisory Committee Act, Public Law 92-463, Notice is hereby given that the SAB PFOA Review Panel will hold a public teleconference and meeting to conduct a peer review of EPA's Perfluorooctanoic Acid (PFOA) Risk Assessment. The dates and times for the teleconference and meeting are provided above.

Background: EPA's Office of Pollution Prevention and Toxics (OPPT) had requested that the SAB peer review the Agency's Perfluorooctanoic Acid (PFOA) Risk Assessment. Background on this SAB review and the process for formation of this review panel was provided in a Federal Register Notice published on March 29, 2004 (69 FR 16249-16250).

The purpose of the upcoming teleconference is for the SAB PFOA Review Panel to review available advisory and background materials, identify additional information needs, discuss the draft charge questions to the SAB and plan for a face-to-face meeting. The purpose of the face-to-face meeting is to conduct a review of the PFOA risk assessment and prepare a response to the charge questions.

Availability of Meeting Materials: A final roster of the SAB PFOA Review Panel, meeting agendas, and charge questions to the SAB will be posted on the SAB Web site (http://www.epa.gov/sab/) prior to the meeting. EPA's PFOA risk assessment and related background information on PFOA may be found at: http://www.epa.gov/opptintr/pfoa/index.htm.

Procedures for Providing Public Comment: It is the policy of the EPA Science Advisory Board (SAB) Staff Office to accept written public comments of any length, and to accommodate oral public comments whenever possible. The SAB Staff Office expects that public statements presented at the PFOA Review Panel's meetings will not be repetitive of previously submitted oral or written statements. Oral Comments: Requests to provide oral comments must be in writing (e-mail, fax or mail) and received by Dr. Shallal no later than five business days prior to the teleconference or meeting in order to reserve time on the meeting agenda. For teleconferences, opportunities for oral comment will usually be limited to no more than three minutes per speaker or organization and no more than fifteen minutes total. For face-to-face meetings, opportunities for oral comment will usually be limited to no more than ten minutes per speaker or organization (unless otherwise stated). Speakers should bring at least 35 copies of their comments and presentation slides for distribution to the reviewers and public at the meeting. Written Comments: Although written comments are accepted until the date of the meeting (unless otherwise stated), written comments should be received in the SAB Staff Office at least five business days prior to the meeting date so that the comments may be made available to the committee for their consideration. Comments should be supplied to the DFO at the address/contact information noted above in the following formats: one hard copy with original signature and one electronic copy via e-mail (acceptable file format: Adobe Acrobat, WordPerfect, Word, or Rich Text files (in IBM-PC/Windows 98/2000/XP format).

Dated: January 6, 2005.
Vanessa T. Vu,
Director, EPA Science Advisory Board Staff Office.

[FR Doc. 05-501 Filed 1-11-05; 8:45 am]

BILLING CODE 6560-50-P